DEPARTMENT OF TRANSPORTATION

Federal Aviation Administration

Notice of Intent of Waiver With Respect to Land; Fort Wayne International Airport, Fort Wayne, IN

AGENCY: Federal Aviation Administration (FAA), DOT.

ACTION: Notice.

SUMMARY: The FAA is considering a proposal to change approximately 78.902 acres of airport land from aeronautical use to non-aeronautical use of airport property located at Ft. Wayne International, Ft. Wayne, IN. The aforementioned land is not needed for aeronautical use.

Fort Wayne International Airport (FWA) proposes to release approximately 78.902 acres of land located on the northeast corner of existing airport property. The land is located to the east of Keller Road and the west of Ardmore Avenue. The land to be released is comprised of Tract 7, Tract 8, and Tract 9 as described in the survey. The land is owned by the Fort Wayne-Allen County Airport Authority (FWACAA). The property was originally purchased for the purpose of economic development and to enable the Authority to ensure airport compatible development. The Sponsor is proposing to release and ultimately sell or lease these parcels per local zoning regulations. The proposed future use of the land will be for compatible commercial or industrial developments. The sale of these parcels would allow the Sponsor to further financially support airfield improvement projects. Of the tracts proposed for release, none were acquired with FAA Funding.

DATES: Comments must be received on or before April 11, 2018.

ADDRESSES: Documents are available for review by appointment at the FAA Chicago Airports District Office, Rob Esquivel, Program Manager, 2300 East Devon Avenue, Des Plaines, IL 60018, Telephone: (847) 294-7340/Fax: (847) 294-7046 and Fort Wayne Allen County Airport Authority, 3801 W. Ferguson Rd., Ste. 209, Fort Wayne, IN 46809, Telephone: (260) 446-3428.

Written comments on the Sponsor's request must be delivered or mailed to: Rob Esquivel, Program Manager, Federal Aviation Administration, Chicago Airports District Office, 2300 East Devon Avenue, Ste. 312, Des Plaines, IL 60018, Telephone: (847) 294-7340/Fax: (847) 294-7046.

FOR FURTHER INFORMATION CONTACT: Rob Esquivel, Program Manager, Federal Aviation Administration, Chicago Airports District Office, 2300 East Devon Avenue, Ste. 312 Des Plaines, IL 60018, Telephone: (847) 294-7340/Fax: (847) 294-7046.

SUPPLEMENTARY INFORMATION: In accordance with section 47107(h) of Title 49, United States Code, this notice is required to be published in the Federal Register 30 days before modifying the land-use assurance that requires the property to be used for an aeronautical purpose.

The land is owned by the Fort Wayne-Allen County Airport Authority (FWACAA). The property was originally purchased for the purpose of economic development and to enable the Authority to ensure airport compatible development. The Sponsor is proposing to release and ultimately sell or lease these parcels per local zoning regulations. The proposed future use of the land will be for compatible commercial or industrial developments.

The disposition of proceeds from the sale of the airport property will be in accordance with FAA's Policy and Procedures Concerning the Use of Airport Revenue, published in the Federal Register on February 16, 1999 (64 FR 7696).

This notice announces that the FAA is considering the release of the subject airport property at the Fort Wayne International Airport, Fort Wayne, IN from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description: Tract 7—25.000 Acres

Part of the Southwest Quarter and Southeast Quarter of Section 5, Township 29 North, Range 12 East of the Second Principal Meridian, Pleasant Township in Allen County, Indiana, more particularly described as follows:

Commencing at a 1″ pinched pipe marking the Northeast corner of said Southeast Quarter; thence North 89 degrees 58 minutes 31 seconds West (GPS Grid bearing and basis of bearings to follow), a distance of 689.63 feet (deed) along the North line of said Southeast Quarter to a DuraNail with a “Miller” identification ring set on the centerline of Indianapolis Road; thence continuing North 89 degrees 58 minutes 31 seconds West, a distance of 2864.85 feet along said North line and along the North line of said Southwest Quarter to a 5/8″ steel rebar with a “Miller Firm #0095” identification cap set; thence South 00 degrees 01 minutes 42 seconds West, a distance of 59.40 feet to a DuraNail with a “Miller” identification ring set at the POINT OF BEGINNING of the herein described tract; thence Southeasterly along a curve, concave to the Southwest, having a radius of 308.50 feet, a central angle of 44 degrees 07 minutes 33 seconds, and a chord of 231.76 feet bearing South 67 degrees 43 minutes 14 seconds East to a DuraNail with a “Miller” identification ring set; thence South 45 degrees 39 minutes 27 seconds East, a distance of 1008.91 feet to a DuraNail with a “Miller” identification ring set; thence South 45 degrees 39 minutes 27 seconds East, a distance of 491.92 feet to a DuraNail with a “Miller” identification ring set on a tangent curve, concave to the Northeast, having a radius of 1166.00 feet, a central angle of 12 degrees 15 minutes 31 seconds, and a chord of 249.00 feet bearing South 51 degrees 47 minutes 13 seconds East to a DuraNail with a “Miller” identification ring set; thence South 57 degrees 54 minutes 58 seconds East, a distance of 300.59 feet to a DuraNail with a “Miller” identification ring set; thence South 32 degrees 03 minutes 29 seconds West, a distance of 538.19 feet to a 5/8″ steel rebar with a “Miller Firm #0095” identification cap set; thence North 45 degrees 39 minutes 27 seconds West, a distance of 2730.62 feet to a DuraNail with a “Miller” identification ring set; thence South 89 degrees 47 minutes 01 seconds East, a distance of 500.40 feet to the Point of Beginning. Containing 25.000 Acres, more or less. Subject to easements of record.

Legal Description: Tract 8—34.606 Acres

Part of the Southwest Quarter and Southeast Quarter of Section 5, Township 29 North, Range 12 East of the Second Principal Meridian, Pleasant Township in Allen County, Indiana, more particularly described as follows:

Commencing at a 1″ pinched pipe marking the Northeast corner of said Southeast Quarter; thence North 89 degrees 58 minutes 31 seconds West (GPS Grid bearing and basis of bearings to follow), a distance of 689.63 feet (deed) along the North line of said Southeast Quarter to a DuraNail with a “Miller” identification ring set on the centerline of Indianapolis Road, said point also being the POINT OF BEGINNING of the herein described tract; thence South 32 degrees 03 minutes 32 seconds West, a distance of 1158.41 feet along said centerline to a DuraNail with a “Miller” identification ring set; thence North 62 degrees 10 minutes 45 seconds West, a distance of 62.09 feet to a DuraNail with a “Miller” identification ring set on a tangent curve, concave to the Northeast, having a radius of 216.00 feet, a central angle of 16 degrees 22 minutes 18 seconds, and a chord of 61.51 feet bearing North 53 degrees 59 minutes 35 seconds West to a DuraNail with a “Miller” identification ring set; thence North 45 degrees 48 minutes 26 seconds West, a distance of 610.87 feet to a DuraNail with a “Miller” identification ring set on a tangent curve, concave to the South, having a radius of 300.00 feet, a central angle of 89 degrees 47 minutes 27 seconds, and a chord of 423.49 feet bearing South 89 degrees 17 minutes 50 seconds West to a DuraNail with a “Miller” identification ring set; thence South 44 degrees 24 minutes 07 seconds West, a distance of 497.18 feet to a DuraNail with a “Miller” identification ring set; thence North 45 degrees 39 minutes 27 seconds West, a distance of 1008.91 feet to a DuraNail with a “Miller” identification ring set on a tangent curve, concave to the Southwest, having a radius of 308.50feet, a central angle of 44 degrees 07 minutes 33 seconds, and a chord of 231.76 feet bearing North 67 degrees 43 minutes 14 seconds West to a DuraNail with a “Miller” identification ring set; thence North 00 degrees 01 minutes 42 seconds East, a distance of 59.40 feet to a 5/8″ steel rebar with a “Miller Firm #0095” identification cap set on the North line of said Southwest Quarter; thence South 89 degrees 58 minutes 31 seconds East, a distance of 2864.85 feet along said North line and along the North line of said Southeast Quarter to the Point of Beginning. Containing 34.606 Acres, more or less. Subject to the right-of-way of Indianapolis Road and subject to easements of record.

Legal Description: Tract 9—19.296 Acres

Part of the Southeast Quarter of Section 5, Township 29 North, Range 12 East of the Second Principal Meridian, Pleasant Township in Allen County, Indiana, more particularly described as follows:

Commencing at a 1″ pinched pipe marking the Northeast corner of said Southeast Quarter; thence North 89 degrees 58 minutes 31 seconds West (GPS Grid bearing and basis of bearings to follow), a distance of 689.63 feet (deed) along the North line of said Southeast Quarter to a DuraNail with a “Miller” identification ring set on the centerline of Indianapolis Road; thence South 32 degrees 03 minutes 32 seconds West, a distance of 1158.41 feet along said centerline to a DuraNail with a “Miller” identification ring set, said point also being the POINT OF BEGINNING of the herein described tract; thence continuing South 32 degrees 03 minutes 32 seconds West, a distance of 701.53 feet along said centerline to a DuraNail with a “Miller” identification ring set; thence North 78 degrees 06 minutes 46 seconds West, a distance of 48.73 feet to a DuraNail with a “Miller” identification ring set; thence North 57 degrees 54 minutes 58 seconds West, a distance of 108.37 feet to a DuraNail with a “Miller” identification ring set; thence North 57 degrees 54 minutes 58 seconds West, a distance of 300.59 feet to a DuraNail with a “Miller” identification ring set on a tangent curve, concave to the Northeast, having a radius of 1166.00 feet, a central angle of 12 degrees 15 minutes 31 seconds, and a chord of 249.00 feet bearing North 51 degrees 47 minutes 13 seconds West to a DuraNail with a “Miller” identification ring set; thence North 45 degrees 39 minutes 27 seconds West, a distance of 491.92 feet to a DuraNail with a “Miller” identification ring set; thence North 44 degrees 24 minutes 07 seconds East, a distance of 497.18 feet to a DuraNail with a “Miller” identification ring set on a tangent curve, concave to the South, having a radius of 300.00 feet, a central angle of 89 degrees 47 minutes 27 seconds, and a chord of 423.49 feet bearing North 89 degrees 17 minutes 50 seconds East to a DuraNail with a “Miller” identification ring set; thence South 45 degrees 48 minutes 26 seconds East, a distance of 610.87 feet to a DuraNail with a “Miller” identification ring set on a tangent curve, concave to the Northeast, having a radius of 216.00 feet, a central angle of 16 degrees 22 minutes 18 seconds, and a chord of 61.51 feet bearing South 53 degrees 59 minutes 35 seconds East to a DuraNail with a “Miller” identification ring set; thence South 62 degrees 10 minutes 45 seconds East, a distance of 62.09 feet to the Point of Beginning. Containing 19.296 Acres, more or less. Subject to the right-of-way of Indianapolis Road and subject to easements of record.

Issued in Des Plaines, IL, on February, 28th, 2018.
Deb Bartell,
Manager, Chicago Airports District Office, FAA, Great Lakes Region.

[FR Doc. 2018-04923 Filed 3-9-18; 8:45 am]

BILLING CODE 4910-13-P